DEPARTMENT OF ENERGY

Office of Science; Fusion Energy Sciences Advisory Committee

AGENCY: Department of Energy.

ACTION: Notice of open meeting.

SUMMARY: This notice announces a meeting of the Fusion Energy Sciences Advisory Committee. The Federal Advisory Committee Act (Public Law 92-463, 86 Stat. 770) requires that public notice of these meetings be announced in the Federal Register.

DATES: Thursday, July 31, 2003, 9 a.m. to 6 p.m.; and Friday, August 1, 2003, 9 a.m. to 12 noon.

ADDRESSES: Gaithersburg Marriott Washingtonian Center, 9751 Washingtonian Boulevard, Gaithersburg, Maryland 20878, USA.

FOR FURTHER INFORMATION CONTACT: Albert L. Opdenaker, Office of Fusion Energy Sciences; U.S. Department of Energy; 1000 Independence Avenue, SW., Washington, DC 20585-1290; Telephone: 301-903-4927.

SUPPLEMENTARY INFORMATION: Purpose of the Meeting: The purpose of this meeting is to complete action on the charge related to exploring the possibility of using fusion energy for non-electric applications. In addition, the Committee will be given a charge on Fusion Science and Engineering Workforce Development and the organization of the panel for dealing with that charge and perhaps some preliminary thoughts on which directions to pursue would be explored at this meeting.

Tentative Agenda:

Thursday, July 31, 2003

• Office of Fusion Energy Sciences Perspective

• Report from the Panel on non-Electric Applications

• Discussion of the Report

• Presentation of a Scientific Paper TBD

• Public Comments

Friday, August 1, 2003

• Discussion of Workforce Development Charge

• Status of International Thermonuclear Experimental Reactor (ITER) Activities

• Planning for Next Meeting

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room; 1E-190; Forrestal Building; 1000 Independence Avenue, SW., Washington, DC, between 9 a.m. and 4 p.m., Monday through Friday, except Federal holidays.

Issued at Washington, DC, on June 10, 2003.
Rachel M. Samuel,
Deputy Advisory Committee Management Officer.

[FR Doc. 03-15106 Filed 6-13-03; 8:45 am]

BILLING CODE 6450-01-P